FEDERAL COMMUNICATIONS COMMISSION

47 CFR Parts 11, 73, and 74

[MB Docket No. 24-148; FCC 25-84; FR ID 325598]

Advancement of the Low Power Television, TV Translator and Class A Television Service

AGENCY: Federal Communications Commission.

ACTION: Final rule.

SUMMARY: In this document, the Federal Communications Commission (FCC or Commission) adopts certain changes to its rules concerning Class A television, low power television and TV translator stations (LPTV Service). These include operational and technical rule updates aimed at providing clarity and regulatory certainty to licensees so they can make informed business decisions about their station operations and to ensure that the public continues to benefit from their operations.

DATES: Effective February 23, 2026, except the amendments to §§ 73.3700(g) (amendatory instruction 11), 73.6001(d) (amendatory instruction 12), 73.6002(b) (amendatory instruction 14), 74.787(a) (amendatory instruction 27), 74.791(a) through (c) (amendatory instruction 29), 74.793(a) through (c) (amendatory instruction 30), and 74.799(i) (amendatory instruction 32) which are delayed. The FCC will publish a document in the Federal Register announcing the effective dates of those amendments.

FOR FURTHER INFORMATION CONTACT: For additional information on this proceeding, contact Shaun Maher, Video Division, Media Bureau at Shaun.Maher@fcc.gov or (202) 418-2324; or Mark Colombo, Video Division, Media Bureau at Mark.Colombo@fcc.gov or (202) 418-7611.

SUPPLEMENTARY INFORMATION: This is a summary of the Commission's Report and Order, in MB Docket Nos. 24-148; FCC 25-84, adopted on December 18, 2025 and released December 19, 2025. The full text of this document is available via FCC website at https://docs.fcc.gov/public/attachments/fcc-25-84A1.pdf. The full text of this document will also be available via ECFS https://www.fcc.gov/cgb/ecfs/. (Documents will be available electronically in ASCII, Word, and/or Adobe Acrobat.) To request these documents in accessible formats for people with disabilities, send an email to fcc504@fcc.gov or call the Commission's Consumer and Governmental Affairs Bureau at (202) 418-0530 (voice), (202) 418-0432 (TTY).

Synopsis

I. Introduction

This Report and Order (R&O) adopts certain changes to the Commission's rules for Class A television, low power television, and TV translator stations (collectively the LPTV Service) as proposed in the Notice of Proposed Rulemaking, 89 FR 53537 (June 27, 2024) (2024) (NPRM) adopted by the Commission in June 2024 in this proceeding. The Commission created the LPTV Service in 1982 to bring local television service to viewers “otherwise unserved or underserved” by existing full power television service providers. Today, these stations are an established component of the nation's television system, delivering free over-the-air TV service, including locally produced programming, to millions of viewers in both rural and urban communities. In light of changes within the broadcast industry and LPTV Service over the last forty years, the R&O adopts changes to the Commission's rules to ensure that the LPTV Service continues to flourish and serve the public interest long into the future.

II. Background

The LPTV Service was established over forty years ago as a secondary, niche service delivering free over-the-air television service, including locally produced programming, to viewers in rural and discrete urban communities. With this goal in mind, it was exempted from certain obligations applicable to full power television broadcasters, including certain recordkeeping and operating obligations. Because stations in the LPTV Service are licensed on available channels found between full service television allocations, they are authorized at lower power levels and serve smaller geographic areas. While the type of stations that comprise the LPTV Service have many similarities under the Commission's rules, they are each a distinct class of broadcast television station, with differing rights and responsibilities. Currently, there are approximately 1,759 licensed low power television (LPTV) stations, 3,096 licensed TV translator stations, and 397 licensed Class A television (Class A) stations.

LPTV stations operate in all states and territories and are permitted to both originate programming, or with permission, retransmit the signal of another TV station. While many LPTV stations air “niche” programming, which is sometimes locally produced, others are affiliated with a television network, including the top four networks (ABC, CBS, Fox, and NBC). TV translators, which also include digital replacement translators (DRTs) or digital-to-digital replacement translators (DTDRTs), primarily operate in the western regions of the United States and often deliver the only over-the-air television service to rural communities. With limited exception, TV translators may only simultaneously retransmit the signal of another TV station, with permission. The primary use of TV translator stations are to provide service to areas where direct reception of full-service television stations is unsatisfactory or not possible because of distance or intervening terrain obstructions. TV translators are not limited to operation within the contour of the station or stations they rebroadcast. Both LPTV and TV translator stations are secondary and may not cause interference to, and must accept interference from, full power television stations, as well as certain land mobile radio operations and other primary services, and may be displaced by full power stations. They also do not have to adhere to any regular schedule of operation.

Class A stations, which were established pursuant to the Community Broadcasters Protection Act of 1999 (CBPA), operate at low power, like LPTV/TV translator stations, but are afforded primary interference protection status. The extension of Class A status to LPTV stations has been limited to the terms of the CBPA and the Low Power Protection Act. Class A stations are required to broadcast a minimum of 18 hours per day and air an average of at least three hours per week of locally produced programming each quarter. Although many Class A stations air independent programming, some are affiliated with a television network, including the top four networks. In addition, Class A stations must comply with certain part 73 regulations applicable to full power television stations, including the Commission's online public inspection file rules, rules governing informational and educational children's programming, and the commercial limits in children's programming. Although Class A stations are not a secondary service, like LPTV/TV translator stations, they are still subject to the various licensing and technical requirements found in part 74 of the Commission's rules.

III. Discussion

A. Revision of Rules Concerning Relocation of Facilities

1. Calculating Distance for Displaced and Channel Sharing Stations

The R&O amends the displacement and channel sharing rules to eliminate the reference to a station's community of license (COL) and incorporate the language of the part 74 minor change rule that measures distance from the reference coordinates of an “existing station's antenna location.” The Commission concludes that modifying the channel sharing and displacement rules to measure a station's proposed relocation based on its antenna location's reference coordinates is a more accurate method of determining the station's service area at the time of such facility modifications and will help maximize service to existing viewers. The Commission finds that using a station's COL is not as accurate a reference point as its antenna reference coordinates, especially in light of the flexibility being afforded LPTV Service stations in this item when designating a COL.

The Commission rejected calls by commenters to retain the existing rules. Because LPTV Service stations are not included in the Table of TV Allotments (Table), they are not assigned any specific COL when licensed. Based on the contour size and the hyperlocal nature of LPTV Service stations, precision is necessary in order to retain the intent of the distance limitation in the rules with regards to minor changes and minimize service disruption. Therefore, the Commission finds that changing its rules to measure a station's proposed relocation based on the reference coordinates of its antenna location provides a more accurate method for determining a station's service area.

2. The Distance Relocation Limit

The R&O retains but modifies the current LPTV Service minor modification distance relocation limit to no greater than 49.1 km from a station's current antenna reference coordinates. This distance ensures that LPTV Service stations seeking to relocate their facilities continue to utilize the minor modification process for just “minor changes.” It will also preserve, to the greatest extent possible, continuity of service for existing viewers. The R&O declines to adopt alternative proposals set forth in the record and declines to adopt the proposed prohibition against rounding when making a distance calculation.

The R&O adopts a rule change to only reference the distance relocation limit in terms of kilometers and eliminate the reference to miles. The current Rule states that the distance limit is “30 miles (48 kilometers),” but these values are not equivalent. Thirty miles is approximately 48.28 km, while 48 km is approximately 29.8 miles. The Commission concludes that a single standard for calculating distance will establish precision and clarity for both broadcasters and the Commission. The R&O next adopts a revised distance limit of 49.1 km and rejects calls by commenters to eliminate or adopt a different limit and/or method for determining compliance. The R&O concludes that a slightly increased limit of 49.1 km (increased from the proposed 48.3 km), will maintain consistency and bring the rule in line with past processing practices.

Stations that have or may lose their existing transmitter sites, may or have been displaced, or are otherwise unable to relocate to a new, rule-compliant transmitter site may seek a waiver of the distance limit and the Commission instructs the Media Bureau (Bureau) to review such waivers on a case-by-case basis under the general waiver standard pursuant to § 1.4. The Bureau should view waiver requests favorably where the applicant is seeking a relocation of no greater than 49.1 km (prior to the new minor modification distance limitation adopted herein taking effect); or if greater than 49.1 km where the applicant can demonstrate that it must relocate its facilities due to circumstances beyond its control (e.g., its tower has been decommissioned or it is displaced). As part of a waiver request seeking to move no more than 49.1 km, the applicant must demonstrate that the proposal maintains contour overlap with the current facility. For a waiver request seeking a relocation of greater than 49.1 km, the applicant must show that it has taken all reasonable efforts to maximize service to existing viewers within the station's contour (i.e., no reasonable alternatives are available that will result in more existing viewers maintaining coverage). The applicant may also demonstrate that viewers within its existing contour will remain well-served and have access to similar programing from other stations.

3. Community of License Designations and Coverage Requirements

The R&O establishes a flexible, formal standard by which LPTV Service stations specify a community of license. The Commission finds that formalizing the COL designation process and providing a set standard for how LPTV Service stations select a COL will provide certainty to licensees and clarity to viewers. Currently, stations in the LPTV Service have been able to informally specify any COL they choose, regardless of whether they provide service to that location. Formalizing the COL designation process and providing a flexible standard for how LPTV Service stations can select its COL will ensure that COLs listed in the Commission's databases, such as the Licensing and Management System (LMS), reflect a station's actual service area. The R&O requires that all stations specify a rule-compliant COL within six months of the effective date of the rule.

Formal COL Designations. LPTV Service stations will be afforded the flexibility to determine where best to locate their stations' facilities and what COL to list for their facilities based on their actual service areas. The Commission rejects arguments that, because LPTV Service stations are not in the Table and can be authorized at any location, there is limited significance of a COL for these stations and the Commission should not adopt a more formal standard for stations to designate a COL. Requiring that LPTV Service stations designate a COL is intended to provide clarity for viewers, allow stations to foster relationships with the communities they serve, and better align with existing rules that already apply to the LPTV Service. Further, given the secondary status of LPTV/TV translator stations and the fact they may need to make changes to their facilities at any time, the Commission concludes that stations should have the flexibility to determine where to site their facilities and select a community of license for those facilities.

The Commission also rejects calls to exempt from the new COL requirement TV translators rebroadcasting full-power noncommercial educational (NCE) or “public” television stations to designate COLs because it would provide little meaningful public interest benefit given the statewide/regional reach of many public TV NCE stations. The Commission finds that the goals of the new COL rule (i.e., ensuring clarity for viewers and allowing stations to foster relationships with the communities they serve) apply equally to all stations in the LPTV Service regardless of class, location, or operation. Furthermore, because TV translator stations are not formally licensed as “public” or “NCE” and are able to rebroadcast commercial or noncommercial stations, including over the same channel at the same time, there is no reliable way for the Commission to determine which translators are “public television translators” and would be eligible to be exempt from the COL rule. Such an approach would require additional filings from TV translators that would likely be more burdensome than simply utilizing existing Commission resources to confirm if their COL actually is located within the station's protected service contours.

Flexible COL Designation Criteria. The R&O adopts flexible criteria for LPTV Service stations to designate and change a COL. First, all LPTV Service stations must designate a COL with a boundary that overlaps with the station's “protected service contour” defined as the contour set forth in § 74.792 for LPTV/TV translator stations and § 73.6010 for Class A stations. A COL's “boundary” for the purpose of determining whether there is overlap with a station's protected service contour will be defined as the “boundary of the community as has been recognized by any federal, state, local, or tribal governmental entity.” A station will be required to certify in any application designating a COL that its protected service contour overlaps with the COL's boundary. Commission staff may request support for the certification in the form of a map demonstrating the overlap. Stations are permitted to use the name of a county or a commonly used name of an unincorporated area, as recognized by any federal, state, local, or tribal governmental entity, as a station's COL. In cases where no community exists within a station's protected service contour, a licensee may select a nearby community located outside its protected service contour and use Longley-Rice to demonstrate the field strength is at or above the value found in §§ 73.6010 or 74.792 (as appropriate). Any amount of overlap between a station's protected service contour and boundary of a station's COL will be deemed sufficient to designate a community as a COL.

COL Change Limits. The R&O declines to limit COL changes to once-per-year finding that licensees are best equipped to evaluate which community they serve within their contour and that the Commission should continue to provide stations in the LPTV Service the flexibility they need to site their facilities based on factors such as the nature of programming, geographic considerations, and market trends.

Required Filing, Compliance Period, and Fee Exemption. All stations in the LPTV Service will designate a COL by filing an application for modification of license and to pay the appropriate filing fee. Within six months of the effective date of the COL rule, all LPTV Service stations must have designated a COL that is rule-compliant. Stations whose current COL listed in LMS meets the requirements of the new COL rule do not need to take any action. Pursuant to § 1.1116, such filings are exempt from paying an application filing fee where the station files a modification of license application during this six-month period solely to come into compliance with the new COL rule. Minor modification applications that include other requests will incur a fee. The Bureau is instructed to revise the Commission's forms as necessary to implement the new COL rule.

B. Minimum Operating Hours for LPTV Stations

The R&O declines to adopt a minimum operating requirement for LPTV stations recognizing that such a requirement may be burdensome and have a detrimental effect on LPTV stations that are traditionally afforded flexibility to decide their stations' operational schedule. Further, the Commission finds that LPTV stations are secondary licensees and many are owned and operated by various small entities whose operating funds, staff, and audience are limited. Therefore, compliance with a precise minimum operating schedule based on these entities existing expectations could prove challenging. Finally, the Commission finds that such a requirement could also unnecessarily deprive LPTV stations of important operational flexibility to respond to marketplace demands and programming opportunities to better serve their niche, local viewers.

Although the Commission declined to establish set minimum operating hours, LPTV stations will continue to be subject to existing operational requirements. An LPTV station that fails to operate for more than 10 days must notify the Commission that it is silent, § 74.763(b). If a station remains silent for more than 30 days, it must seek Commission authority to remain silent, § 73.1635. Upon resuming operations, stations must notify the Commission, § 73.1740(a)(4). Failure of an LPTV station to operate for a period of 30 days or more, except for causes beyond the control of the licensee, shall be deemed evidence of discontinuation of operation and the license of the station may be cancelled at the discretion of the Commission, § 74.763(c). Finally, as with all broadcast stations, an LPTV station's license will automatically expire, as a matter of law, if the station fails to transmit a broadcast signal for any consecutive twelve-month period, notwithstanding any provision, term, or condition of the license to the contrary, 47 U.S.C. 312(g). LPTV stations must also file required applications and/or notifications when they operate at variance from their licensed parameters, §§ 73.1635, 73.1740, 74.763(b).

Revising the Minimum Operating Requirement For TV Translators. The R&O also declines to revise the minimum operating rule for TV translators by replacing the word “expected” with “required.” The Commission recognized commenters who pointed out that vast majority of TV translators already attempt to provide as much service as possible, and this change would unnecessarily create uncertainty. The Commission reinforced its expectation that TV translators endeavor to do all they can to rebroadcast their primary station(s) and provide uninterrupted service given the nature of TV translator stations, which often provide service in rural, isolated areas in the absence of any other over-the-air television service.

C. Clarifying Video Program Signal Requirements

The R&O clarifies that, with respect to the requirement in § 74.790(g)(3) that “[w]henever operating, an LPTV station must transmit at least one over-the-air video program signal . . . , ” the term “video program signal” excludes test patterns, slides, and still pictures with unrelated aural transmissions. The Commission concludes that this clarification is consistent with what viewers have come to expect with regards to the type of service provided by television broadcast stations. Further, the Commission clarifies that this does not mean that test patterns, slides, or still pictures with unrelated aural transmissions are precluded, nor does it mean that the Commission finds that they do not serve the public interest. To make this point clear, the R&O eliminates the term “whenever operating” from the rule to remove any doubt that the Commission does not intend to restrict LPTV stations from broadcasting test patterns, slides, or still pictures with unrelated audio.

The Commission rejects commenters that argue that this clarification goes against the flexibility originally granted to the LPTV stations. The Commission concludes that, although slides with local community information or still pictures with unrelated audio may have some public interest importance, it is not prohibiting stations from airing such material. Instead, the Commission concludes that such content is by itself insufficient for purposes of meeting the minimum video program signal obligation under § 74.790(g)(3). Rather than eliminate LPTV station's operational flexibility, the revised rule makes clear what it means to provide a “video program signal” and does not impose any new minimum operating requirements or preclude LPTV stations from broadcasting test patterns, slides, or still pictures with unrelated aural transmission so long as the station provides a video program signal that is consistent with the Commission's rules. The Commission will apply this requirement only to programming aired on the station's primary stream and not apply it to a station's multicast stream. For purposes of the rule, “multicast” stream(s) shall refer to a TV broadcast station's non-primary video programming stream(s); that is, stream(s) other than the station's primary video programming stream.

The Commission also rejects arguments that the rule amounts to unconstitutional Commission regulation of content on broadcast stations such that it interferes with a station licensee's right of free speech. The Commission maintains that the rule is wholly content neutral, as it does not distinguish favored speech from disfavored speech based on the views or ideas expressed in the programming and is reasonably tailored to satisfy the substantial governmental interest and long-standing Commission goal of ensuring that frequencies allocated for television service continue to be used for the types of video program services viewers have come to expect from television stations.

Finally, the Commission finds concerns raised in the record that adoption of the rule could prevent the airing of emergency information, such as Emergency Alert System (EAS) tests or alerts, to be unfounded. The rule does not prohibit the transmission of slides or still pictures with unrelated audio transmissions and, therefore, should not impede stations use of such materials in times of emergency, for EAS tests, or for other exceptional circumstances. In such circumstances, the display of slides and still pictures is usually brief and in practice should be inconsequential for determining whether a LPTV station is complying with its requirement under § 74.790(g)(3), as modified in the R&O.

D. Class A, LPTV and TV Translator Station Designations and Call Signs

1. Changes Between LPTV Service Designations

The R&O adopts a rule to require LPTV and TV translator stations that want to change their service designation (i.e., from LPTV to TV translator, or vice versa) to do so by way of a license modification application. By adopting an application requirement, but not imposing a limit on designation changes, the Commission concludes that it is creating a formal process for stations to change their designation that will allow the Commission and public to better track station classification changes and will provide rule compliance clarity for stations; while at the same time continuing to provide licensees the flexibility to change their service designation based on the programming demands of their viewers and the broadcast marketplace. Such applications will be filed electronically on LMS on FCC Form 2100, Schedule D. Applicants will be required to pay the requisite application filing fee. In order to promote transparency, ensure the timely processing of such requests (as limited in number as they may be), and in light of the general support for establishing a formal process for designation changes, the Commission determined it is appropriate to apply the same license modification process to Class A stations. Such applications will be filed electronically on LMS on FCC Form 2100, Schedule F. Applicants will be required to pay the requisite application filing fee. The Commission instructed the Bureau to revise its forms and make all necessary changes to LMS to implement this rule.

The R&O declines to adopt a rule limiting stations to designation changes only once every twelve months. The Commission concludes that limiting LPTV Service designation changes to no more than once every twelve months would provide only limited benefit that is outweighed by the public interest benefit of affording licensees flexibility to respond to marketplace demands and determine what service designation is appropriate to best serve their viewers.

2. TV Translator Call Sign Assignments

The R&O clarifies that all TV translator stations must have an alphanumeric call sign comprised of a prefix consisting of the initial letter “K” or “W” (based on the station's geographic location in relation to the Mississippi River), followed by the channel number assigned to the station and two additional letters, and a suffix consisting of the letter “-D.” Thirty days after the effective date of this R&O, the Bureau will automatically modify any TV translator call signs that does not comply with the TV translator call sign convention. The 30-day period will allow licensees to inform their viewers of the impending call sign change as they deem necessary. Similarly, when a station converts from LPTV to TV translator status, the Bureau will provide a 30-day period before automatically modifying a station's call sign to comply with the call sign naming convention in the TV translator call sign rule, in order to allow the station a period of time to inform viewers of the impending call sign change as appropriate. The R&O declines to “grandfather” existing, non-compliant TV translator call signs finding that TV translator stations are, with limited exception, restricted to rebroadcasting other station's programing, TV translators do not have their own unique identity and `grandfathering' existing call signs has no cognizable public interest benefit.”

3. Class A and LPTV Call Sign Assignments

The R&O adopts a rule requiring that all Class A and LPTV stations must have a four-letter call sign, with the suffix “-LD” for LPTV stations and “-CD” for Class A stations. In light of the regulatory and service distinctions between LPTV Service stations, the Commission concludes that it is appropriate to require that each service conform to its own call sign prefix and suffix. The R&O will not require LPTV and Class A stations licensed as of the date of the release date of the R&O to change their call signs and will “grandfather” LPTV and Class A call signs that are not compliant with the revised rule. A grandfathered call sign may be retained, unless or until the station changes its service designation or voluntarily chooses to modify its call sign. Grandfathered call signs may also be retained as part of an assignment or transfer of a station's license. Stations that do not qualify for grandfathering or that want to voluntarily change their call sign to comply with the new rule will be provided one-year from the effective date of the rule changes to designate a four-letter call sign with the correct suffix. During this one-year period, pursuant to § 1.1116(a), such filings are exempt from payment of the fee associated with any call sign change request that is submitted by a station solely to come into compliance with the revised rule. Any station that subsequently modifies its service designation will be required to submit a call sign change request and pay the appropriate fee.

The R&O also adopts a rule to modify the call sign of a Class A station that reverts from Class A status to LPTV to reflect its LPTV status by automatically changing its call sign suffix from “-CD” to “-LD” upon the change in service designation. The newly classified LPTV station will retain its current four-letter call sign prefix unless it conflicts with that of an existing LPTV station. In such a circumstance, the former Class A station will be required to modify its four-letter call sign prefix in through the Commission's LMS call sign reservation process and pay the appropriate fee. When an opportunity for a status change from LPTV to Class A exists, a station's call sign will be modified to designate the “-CD” suffix as part of the Class A eligibility and licensing process. The newly created Class A station will retain its current four-letter call sign prefix unless it conflicts with that of an existing Class A station. In such a circumstance, the new Class A station will be required to modify its four-letter call sign prefix through the Commission's LMS call sign reservation process and pay the appropriate fee.

The Commission rejected proposals for alternative call sign assignments finding such alternatives unworkable and would actually make the call sign system more confusing for the public and the burden that would be placed on broadcasters through a wholesale change to the Commission's call sign system far outweighs any potential benefit.

E. EAS Obligations

The R&O amends the Commission's rules to clarify that all stations with the LPTV designation, regardless of how the station is operated, must generally comply with the part 11 EAS rules and further clarifies that a station formally designated in the Commission's database as a TV translator is not required to comply with the part 11 requirements, such as installing EAS equipment or meeting related obligations like filing in EAS Test Reporting System, if it entirely rebroadcasts the programming—including all EAS—of a Primary Station. If a TV translator airs locally originated content, it may need to install EAS equipment or monitor their Primary Station during periods of local origination to ensure that all EAS alerts provided by the Primary Station are being transmitted. The part 11 EAS rules currently provide that “LPTV stations that operate as television broadcast translator stations, as defined in § 74.701(b) are not required to comply with the requirements of this part.” In light of the decision to formalize the LPTV Service designation process and given the distinctions between LPTV and TV translator stations that have developed over the years, the Commission finds removal of this vague and unnecessary exception will help to ensure that all LPTV stations, when constructed, install the necessary EAS equipment. It will also further the public interest by ensuring emergency alerts are properly and fully disseminated. The Commission rejects opposition from commenters that it finds is based on an apparent misunderstanding of the rule change. The Commission clarifies the revised rule will not require a LPTV station to procure any new EAS equipment, does not expand existing EAS obligations, and does not increase burdens on existing stations that are or are acting as TV translators.

F. Channel 14 Emission Masks

The R&O adopts a rule that requires that new channel 14 LPTV Service stations (Channel 14 LPTV Stations) and channel 14 LPTV stations that apply to modify their facilities specify a “full service” or “stringent” emission mask and prohibit the use of the “simple” emission mask. The Commission clarifies that stations currently licensed and operating without causing interference to Land Mobile Radio (LMR) operations do not need to implement stringent or full-service masks, unless they propose to modify their facilities. The Commission found that instances of interference to LMR facilities from channel 14 television facilities “have been readily resolved by the installation of appropriate filters” and that stringent and full-service emission masks are more restrictive than the simple mask and more effectively decrease out-of-band emissions. The Commission concludes that the cost difference between simple, stringent, and full-service mask filters is not substantial and because the filters are generally of similar physical size they should have similar installation costs. Therefore, the Commission concludes that any increased cost of requiring Channel 14 LPTV Stations to include stringent or full-service mask filters would not be unduly burdensome and any burden would be far outweighed by the benefits of better protecting LMR facilities from interference.

All Channel 14 LPTV Stations that are licensed as of the effective date of the new rule must specify either stringent or full-service mask filtering if they modify their facilities, unless the station is decreasing power or making a modification to its facilities that does not change its service contour. Use of filters superior to those found in the Commission's rules, including 8-pole, 12-pole, and cascaded masks, are still permitted to be used so long as they match or exceed the stringent and full-service masks which are permitted on channel 14. Relocation within the contour, even if it does not increase the contour in any direction, will require stringent or full-service mask filtering. While the overall service area may shrink, the new location may put the station closer to or potentially even on the same tower as a land mobile operation. This situation would be more likely to create interference, a situation we seek to avoid with this rule. With respect to those Channel 14 LPTV Stations that are licensed as of the effective date of the new rule, are operating without causing interference to LMR facilities despite use of a simple emissions mask, and do not seek to modify their facilities as described above, the Commission does not require they take any further action. Because such stations are operating without causing interference we find there is no benefit to requiring them to utilize stringent or full-service mask filtering unless there is interference to an LMR facility.

G. Prohibition on Operations Above Channel 36

The R&O adopts a rule prohibiting LPTV/TV translator stations from operating above channel 36 (out-of-core channels). Although the Commission has prohibited new operations on out-of-core channels, it provided flexibility to LPTV/TV translator stations operating on out-of-core channels after the conclusion of the Incentive Auction and repacking process to continue operating on their pre-auction channels above channel 36 until they were notified by a new 600 MHz Band licensee that it intended to commence operations. The Commission notes that the Incentive Auction closed in 2017 and according to the Commission's records there are currently no LPTV/TV translator stations operating on out-of-core channels. Accordingly, the Commission finds that the flexibility previously afforded to out-of-core stations is no longer necessary. Further, the Commission also deletes its rules pertaining to station operations on out of core channels and new 600 MHz Band licensee notification requirements finding such rules to now be obsolete. These changes shall be effective 30 days after publication of this document. While the Bureau has conducted a thorough review of LMS to ensure no stations remain licensed and operational above channel 36, this delayed effective date will also provide further assurance of that fact and, if there are, provide those stations one final opportunity to locate an in-core channel before being required to cease operations.

H. Additional Class A, LPTV, and TV Translator Rule Clarifications

1. DTS Emission Masks

The R&O adopts a rule that will require all transmitters in LPTV Service station Distributed Transmission System (DTS) facilities to utilize the same emission mask. The Commission notes that all stations must specify an emission mask to be implemented with their DTS facilities; however, the DTS rules adopted by the Commission for LPTV Service stations did not address whether a different type of emission mask could be employed or whether the same emission mask must be used at each DTS site. In order to ensure accurate interference calculations and reduce the potential for interference, the Commission amends its rules to require all LPTV Service DTS facilities utilize the same emission mask at each DTS site. Pursuant to the procedures set forth in OET Bulletin No. 69, an interference calculation is done for each DTS transmitter site. See OET Bulletin No. 69—Longley-Rice Methodology For Evaluating TV Coverage and Interference (Feb. 6, 2004) a copy of which is available at: https://transition.fcc.gov/oet/info/documents/bulletins/oet69/oet69.pdf. A station is permitted to use any of the emission masks permitted by the Commission's rules, so long as the same emission mask is used at all of their DTS transmitter sites. As of the date of the R&O, there is only one LPTV Service station, WSJT-LD, Atlantic City, NJ (Fac. ID No. 191421) that has been authorized to operate using DTS. The station specified the same emission mask at all sites. No changes to its facilities will be needed to comply with the new rule. There are no other pending applications for LPTV Service stations to implement DTS. Applications pending as of the effective date of this new rule will be required to come into compliance with the new emission mask requirement prior to being acted on.

2. Interference Allowance

The Commission adopts a rule that will apply the same requirements for all LPTV Service stations when entering into an interference agreement. This includes entering into a signed written agreement that is submitted with the application, making clear that agreements may include the exchange of money or other consideration between entities, and permitting previously agreed upon interference thresholds be maintained in the event of facility modifications. In order to provide clarity and transparency, the R&O amends the Commission's rules to require LPTV Service stations seeking to use an agreement to resolve interference concerns to enter into a signed written agreement that is submitted with any application that would exceed the 2% interference threshold and makes clear whether money or other consideration was exchanged. Second, the rule provides that stations operating pursuant to interference agreements, or that are unilaterally accepting interference from another station, are permitted to maintain those agreed upon interference thresholds when modifying a facility. The Commission concludes that this revision will not only help maintain the status quo, but preserve existing service to the public based on agreed upon or unilaterally accepted interference levels.

3. Maximum Grid Resolution

The R&O codifies the use of a one square kilometer grid resolution as the maximum permitted in evaluating the interference caused by LPTV Service facilities. As a maximum limit, the rule inherently permits a finer grid resolution. To make this point clear, the Commission adjusts the text of the rule to clarify that the finer 0.5 km grid resolution remains available so long as it is specified in an exhibit to the application.

4. Displacement Public Notice Period

The R&O eliminates the 30-day public notice period for displacement applications. The displacement rule currently states that displacement applications “will be placed on public notice for a period of not less than 30 days to permit the filing of petitions to deny.” This comment period was implemented because displacements require channel changes which create a greater concern for interference. At the same time, displacements are considered applications for minor change, and other minor change applications are not subject to the 30-day period for interested parties to file a petition to deny. The Commission concludes that requiring a displaced LPTV/TV translator station to wait a full 30 days to receive action on its displacement application may result in avoidable loss of service to viewers or continued loss of service to viewers by delaying Commission action and thereby a station's ability to construct and commence operating from its displacement facility. Therefore, to minimize service disruptions to the public, expedite processing and construction, reduce burdens on stations and the Commission, and streamline the displacement process, the 30-day public notice period for displacement applications is eliminated. Affected parties that want to oppose grant of a displacement application may still file an informal objection prior to Commission action and seek reconsideration up to 30 days after the grant. In addition, affected parties at any time may report interference concerns that arise after displacement facilities are constructed and operating.

5. Displacement Eligibility Revisions

Displacement Caused by Actual Interference. The R&O clarifies what is meant by “causing or receiving interference” as used in § 74.787(a)(4) (Displacement Rule). The Displacement Rule is revised to make clear that this basis for displacement refers to “actual” interference received by a TV broadcast station (i.e., a full power television station) from an LPTV or TV translator station. While LPTV/TV translator stations are permitted to cause up to 0.5% predicted interference to a full power station, as a primary service full power stations are protected from actual interference within their noise limited service contour (NLSC), even if the predicted interference is below the 0.5% threshold. The Commission declined to adopt its proposal establishing a standard for stations to demonstrate actual interference due to a paucity of the record on this issue and announced that it will continue to examine claims of displacement based on actual interference caused to a full power television station within its NLSC on a case-by-case basis based on the unique facts presented. The Commission also noted that actual interference caused by a TV broadcast station to an LPTV/TV translator has not historically been used for determining displacement of an LPTV/TV translator station. Because LPTV/TV translator stations are secondary and may receive up to 2% predicted interference before being displaced, the presence of actual interference cannot reliably be utilized to demonstrate displacement. As such it did not include such a circumstance in the updated Displacement Rule and concluded that LPTV/TV translator stations that would receive actual interference significant enough to warrant displacement from a TV broadcast station will be able to demonstrate it via the “predicted” interference method.

Displacement Caused by Predicted Interference. The R&O revises the Displacement Rule to clarify the levels of “predicted” interference that is “cause[d] or receive[d]” that qualifies a station for a displacement channel. Under the revised rule, predicted interference “caused” to a TV broadcast station must exceed the 0.5% de minimis interference threshold specified in § 74.793(e) to qualify the station to file a displacement application. With respect to predicted interference “received” from a TV broadcast station, the predicted interference must exceed the 2% interference threshold specified in § 74.793(h) to qualify the station to file a displacement application. This revision is intended to clarify what is meant by the word “predicted” in the context of the Commission's current interference thresholds. It is not intended to expand or restrict displacement eligibility for predicted interference beyond the scope of the current rule. It is also not intended to modify our current interference thresholds (i.e., 0.5% or 2%).

Displacement Caused by “Other Protected Station or Service”. The R&O revises the displacement rule to make clear what “other protected station or service” means by adding two specific situations that would qualify an LPTV/TV translator station to seek a displacement channel: (1) interference to LMR facilities and (2) interference to/from protected television facilities in Canada and Mexico. The Commission finds that memorializing such circumstances involving “other protected station or service” as qualifying an LPTV/TV translator station for displacement in the Rules will help provide certainty for licensees.

Displacement Caused by Interference to Input Channels. The R&O adds as a basis for displacement interference caused by an LPTV/TV translator station to a TV translator input channel. Although translator inputs are not “protected services,” and the R&O does not change that, the Commission concludes it is in the public interest to provide LPTV/TV translators the ability to seek displacement relief in order to help prevent interference to input channels given their often critical role in enabling TV translators to serve their viewers. Enumerating this basis in our rule will also help reduce burdens on stations by allowing stations to file for displacement without the need for waiver. The basis for demonstrating interference in this circumstance may be “actual” or “predicted” and that interference must be measured in relation to the input channel receive site. While proximity to an input channel's receive site is likely to increase the potential for interference, the underlying intent of the rule is to ensure that LPTV/TV translator stations have flexibility to resolve interference that could impede a TV translator station's ability to receive the programing that it is retransmitting.

Displacement Caused by Full Power Channel Substitutions. The R&O clarifies when an LPTV/TV translator station displaced by a full power station's channel substitution may apply for displacement. The Displacement Rule is amended to specify that such displacement applications cannot be filed until the report and order granting the channel substitution and amending the Table is effective. This revision to the Rules will ensure that the station is in fact qualified for displacement and prevent stations from prematurely reserving spectrum on a contingent basis. In unique circumstances where a full power station is prepared to quickly move to its new channel, an LPTV/TV translator station may seek waiver and apply for special temporary authority to commence operations on its planned displacement channel. The Commission instructs the Bureau to otherwise dismiss, without prejudice, displacement applications that are filed prematurely.

Displacement Exhibit. In order to expedite the processing of displacement applications so that displaced stations can obtain an authorization, quickly begin construction of their displacement facility, and preserve service to the public, the R&O adopts a rule requiring that applicants for displacement include an exhibit briefly describing the specific cause of displacement. The Commission finds that requiring a brief description to be filed with the displacement application is a small task to ask of applicants to prevent processing delays.

LPTV Channel Sharing. LPTV/TV translator stations are permitted to relinquish their licensed channel (sharee station) and enter into a channel sharing agreement (CSA) in order to share the licensed channel of another station (host station). Upon termination of a CSA, whichever station that does not retain rights in the shared channel under the terms of the CSA must either find a new host to share with or, because it no longer has a channel on which to operate, submit its license for cancellation. Previously, the Commission's LPTV/TV translator channel sharing rules did not specifically state whether “orphaned” channel sharing stations could file an application for a new channel upon termination of their CSA. The R&O declines to adopt a commenter's proposal requesting that orphaned LPTV/TV translator stations be permitted to resume independent non-shared operation through use of the displacement process. Instead, the Commission finds that a more appropriate process for LPTV/TV translator channel sharing stations to reacquire their own, non-shared channel is through the existing major modification process. Major modification applications are filed on FCC Form 2100, Schedule C. Prior to filing an application specifying a new, non-shared channel, an application for modification of license to dissolve the existing channel sharing arrangement must be filed. This would be done using FCC Form 2100, Schedule D. The Commission instructs the Bureau to consider waivers on a case-by-case basis for stations whose arrangements have expired or will expire prior to the end of the current major modification freeze. The Bureau should view waiver requests favorably where the applicant can demonstrate that: (1) its channel sharing arrangement has been terminated for reasons beyond its control (e.g., its arrangement was terminated through the unilateral actions of its channel sharing partner loss of tower site, etc. or the arrangement expired on its own terms), (2) the station has or will be required to go silent prior to lifting of the major modification freeze, (3) grant will preserve service for existing viewers to the greatest extent possible, and (4) the licensee has undertaken reasonable efforts to extend its channel sharing agreement until such time as the freeze is lifted. Applicants should not interpret the Commission's willingness to provide interim relief through waiver as a way to avoid processing priorities once the major change freeze is lifted.

6. Program Test Authority Rule for LPTV/TV Translators

The R&O adopts a rule that makes the part 73 “program test authority” (PTA) rule applicable to LPTV/TV translator stations. Currently, full power and Class A stations, with certain limited exceptions (e.g., stations permitted to operate on channel 14), may begin operating under PTA after completion of a facility provided that an application for license to cover is filed within ten days of commencing operations. The Commission finds that applying the part 73 PTA rule to LPTV/TV translator stations will provide these stations with the same flexibility as full power and Class A stations to begin operating automatically pursuant to PTA, with certain exceptions, so that they may more expeditiously start providing new and modified service to the public. Television stations on channel 14 will continue to be required to seek approval prior to commencing operations pursuant to program test authority. The Commission or the Bureau, under its delegated authority, may also continue to place conditions as may be necessary on a station's construction permit requiring grant of program test authority prior to commencing operations.

I. Part 73 and Part 74 Ministerial Rule Corrections

The R&O makes minor editorial changes to the Rules that were a result of inadvertent oversights in the Commission's 2022 Part 74 Order and 2023 Part 73 Order. Specifically, the R&O: (1) removes the duplicate definitions in § 74.701(f) and (k), and (a) and (j) and re-letters the remaining paragraphs as (a) through (g); (2) removes the remaining instances of the word “digital” from §§ 74.720, 11.11(a) and (b), 11.51(e), and 11.61 given that all LPTV/TV translator stations now solely operate in digital mode; and (3) reorganizes and amends § 74.780 based on the service(s) each subsection listed therein is applicable to, and remove the cross-reference to § 73.1692 since that section was previously removed from the rules. The Commission also updated the cross-references in §§ 11.11(b), 11.51(e), 73.3580(a)(3), 74.783(a), 74.783(a)(1), and 74.790(g)(2) to reflect the new lettering to be consistent with revised definitions and §§ 74.732(d), 74.783(a), (a)(1), 74.784(e), and 74.791 (a), (b), (c) to be consistent with the terms and abbreviations in the adopted § 74.701. With regards to the part 73 rules, the R&O: (1) amends § 73.7003 to reflect the proper cross reference to § 73.618 instead of § 73.685, which was relocated to § 73.618; (2) updates the reference in § 73.7003(b)(4) which references a station's analog service “Grade B” contour to instead reference the correct “NLSC” which is used for digital stations; (3) amends the internal cross-reference in § 73.7003(c)(5)(ii) to reference paragraph (c)(5)(i) instead of a nonexistent rule reference; (4) replaces a reference to “DTV” in § 73.619(b)(1) with “TV” consistent with other similar replacements in the 2023 Part 73 Report and Order; (5) updates references in §§ 73.625(c)(4)(i) and 73.6002(a)(2) to reference updated Commission forms names; and (6) corrects typographical errors in § 73.2080(f)(3).

J. Matters Outside of the Scope of This Proceeding

The R&O notes that the Commission received several proposals that the Commission finds propose material changes to the Rules or for the Commission to take other actions outside the scope of this proceeding, including requests to allow LPTV Service stations to operate with additional power, allow more LPTV stations to upgrade to Class A status, grant must carry status to Class A and LPTV stations, add Class A stations to the Table, end certain requirements for ATSC 3.0 operations, reduce EAS requirements for LPTV stations, eliminate the condition placed on LPTV Service licenses related to construction and continuous operations, and rename the Low Power Television Service to the Local Power Television service. The Commission declines to consider or take action on these requests finding that these matters were either outside the scope of this proceeding or are being addressed in the Commission's Delete, Delete, Delete proceeding, and are more appropriately considered in the context of other open proceedings, or were previously raised and rejected as actions beyond the scope the Commission's authority.

K. Cost/Benefit Analysis

After evaluating the record received in response to the NPRM's request for comment on the benefits and costs associated with adopting the proposals set forth in the NPRM, the Commission concludes that to the extent that the revised rules impose any costs on Commission licensees and regulatees, such costs will be minimal and are outweighed by the benefits of the revised rules. Any comments received related to potential costs imposed on Commission licensees and regulatees as a result of revised proposals have been addressed as part of those specific proposals.

IV. Procedural Matters

Paperwork Reduction Analysis. Amended §§ 73.3700(g)(4), 73.6001, 73.6002, 74.787, 74.791 and 74.793 may contain new or substantively modified information collection requirements subject to the Paperwork Reduction Act of 1995 (PRA). All such new or modified requirements will be submitted to the Office of Management and Budget (OMB) for review under section 3507(d) of the PRA. OMB, the general public, and other federal agencies will be invited to comment on any new or modified information collection requirements contained in this proceeding. In addition, we note that, pursuant to the Small Business Paperwork Relief Act of 2002, Public Law 107-198, see 44 U.S.C. 3506(c)(4), in the NPRM, the Commission previously sought specific comment on how it might further reduce the information collection burden for small business concerns with fewer than 25 employees. Additionally, this document may contain non-substantive modifications to approved information collections. Any such modifications will be submitted to OMB for review pursuant to OMB's non-substantive modification process.

In this present document, we have assessed the effects of the various new or modified information collection requirements adopted herein and find that they will not impose significant costs on stations because similar application and filing requirements currently exist for many stations and they are likely to be familiar with the forms and processes required for compliance. Further, where possible, the Commission exempts application fees for certain new requirements. To the extent that the requirements impose additional costs on small entities, such costs should be minimal and are outweighed by the benefits of the revised requirements, and would apply equally to small and large entities.

Congressional Review Act. The Commission has determined, and the Administrator of the Office of Information and Regulatory Affairs, Office of Management and Budget, concurs, that this rule is “non-major” under the Congressional Review Act, 5 U.S.C. 804(2). The Commission will send a copy of this Report and Order to Congress and the Government Accountability Office pursuant to the Congressional Review Act, see 5 U.S.C. 801(a)(1)(A).

Final Regulatory Flexibility Analysis. As required by the Regulatory Flexibility Act of 1980, as amended (RFA), the Federal Communications Commission (Commission) incorporated an Initial Regulatory Flexibility Act Analysis (IRFA) into the Amendment of the Commission's Rules to Advance the Low Power Television, TV Translator and Class A Television Service, Notice of Proposed Rulemaking (NPRM), 89 FR 53537 (June 27, 2024). The Commission sought written public comment on the proposals in the NPRM, including comment on the IRFA. No comments were filed addressing the IRFA.

A. Need for, and Objectives of, the Rules

The R&O adopted changes to the Commission's rules and policies to reflect changes in the service over the last 40 years, help stations in the LPTV Service to be better prepared for future operations, and enhance the LPTV Service overall. Many of the changes also affect Class A stations. Given the maturation of the LPTV Service since its initiation, the R&O adopts the following changes to the regulations of this service:

• Amend the method for calculating the maximum distance that a displaced LPTV/TV translator or LPTV Service channel sharing station may move.

• Revise the minor change rule to establish a uniform maximum distance that LPTV Service stations may move using a minor modification application.

• Require that LPTV Service stations specify a community of license (COL) within their station's contour.

• Establish a formal process by which that LPTV Service stations may change their service designation (i.e., LPTV to TV translator (and vice versa), as well as Class A to LPTV).

• Require LPTV Service stations to maintain a call sign consistent with their class of service.

• Require use of a “stringent” or “full-service” emission mask for channel 14 LPTV Service stations to prevent interference to LMR facilities.

• Prohibit LPTV/TV translator station operations above TV channel 36.

• Remove the 30 day public notice comment period for displacement applications and clarify when an LPTV/TV translator station displaced by a full power station's channel substitution may apply for displacement.

• Clarify the existing displacement rule and interference thresholds for actual and predicted interference, and amend the definition of displacement to explicitly include displacement by LMR stations; by protected television facilities in Canada and Mexico; and due to interference to TV translator input channels.

• Codify other rule clarifications consistent with precedent, including the use of emission masks at DTS transmitter sites; the maximum grid resolution permitted with interference analyses; and application of the part 73 “program test authority” rule to LPTV/TV translator stations.

• Remove duplicate definitions and obsolete rules, re-letter the definitions remaining in the part 74 rules, and make other editorial, non-substantive corrections to the part 11, 73, and 74 rules.

B. Summary of Significant Issues Raised by Public Comments in Response to the IRFA

No comments were filed addressing the impact of the proposed rules on small entities.

C. Response to Comments by the Chief Counsel for Advocacy of the Small Business Administration

Pursuant to the Small Business Jobs Act of 2010, which amended the RFA, the FCC is required to respond to any comments filed by the Chief Counsel for Advocacy of the Small Business Administration (SBA), and provide a detailed statement of any change made to the proposed rules as a result of those comments. The Chief Counsel did not file any comments in response to the proposed rules in this proceeding.

D. Description and Estimate of the Number of Small Entities to Which the Rules Will Apply

The RFA directs agencies to provide a description of, and where feasible, an estimate of the number of small entities that may be affected by the rules adopted herein. The RFA generally defines the term “small entity” as having the same meaning as under the Small Business Act. In addition, the term “small business” has the same meaning as the term “small business concern” under the Small Business Act.” A “small business concern” is one which: (1) is independently owned and operated; (2) is not dominant in its field of operation; and (3) satisfies any additional criteria established by the SBA. The SBA establishes small business size standards that agencies are required to use when promulgating regulations relating to small businesses; agencies may establish alternative size standards for use in such programs, but must consult and obtain approval from SBA before doing so. The Commission's actions, over time, may affect small entities that are not easily categorized at present. We therefore describe three broad groups of small entities that could be directly affected by the Commission's actions. In general, a small business is an independent business having fewer than 500 employees. These types of small businesses represent 99.9% of all businesses in the United States, which translates to 34.75 million businesses. Next, “small organizations” are not-for-profit enterprises that are independently owned and operated and not dominant their field. While we do not have data regarding the number of non-profits that meet that criteria, over 99 percent of nonprofits have fewer than 500 employees. Finally, “small governmental jurisdictions” are defined as cities, counties, towns, townships, villages, school districts, or special districts with populations of less than 50,000. Based on the 2022 U.S. Census of Governments data, we estimate that at least 48,724 out of 90,835 local government jurisdictions have a population of less than 50,000.

The rules adopted in the R&O will apply to small entities in the industries identified in the chart below by their six-digit North American Industry Classification System (NAICS) codes and corresponding SBA size standard. Based on currently available U.S. Census data regarding the estimated number of small firms in each identified industry, we conclude that the proposed rules will impact a substantial number of small entities. Where available, we also provide additional information regarding the number of potentially affected entities in the identified industries below.

Table 1—2022 U.S. Census Bureau Data by NAICS Code
Regulated industry | NAICS code | SBA size standard (million) | Total firms | Total small firms | % Small firms
Television Broadcasting Stations | 516120 | $47 | 413 | 316 | 76.51

Table 2—Broadcast Entity Data
Broadcast station owners (as of August 8, 2025): Affected entity | SBA size standard ($47 million): # commercial licensed | SBA size standard ($47 million): Small firms | SBA size standard ($47 million): % Small entities
Television Stations | 171 | 142 | 83.04

We note that there were 4,689 licensed noncommercial (NCE) FM radio stations, 1,977 low power FM (LPFM) stations, 8,880 FM translators and boosters, 383 licensed noncommercial educational (NCE) television stations, 383 Class A TV stations, 1,780 LPTV stations and 3,094 TV translator stations. Broadcast Station Totals as of June 30, 2025, Public Notice, DA 25-581 (rel. July 8, 2025).

E. Description of Economic Impact and Projected Reporting, Recordkeeping and Other Compliance Requirements for Small Entities

The RFA directs agencies to describe the economic impact of proposed rules on small entities, as well as projected reporting, recordkeeping and other compliance requirements, including an estimate of the classes of small entities which will be subject to the requirement and the type of professional skills necessary for preparation of the report or record.

The adopted changes to the Commission's rules and policies are designed to ensure that LPTV service continues to serve the public interest. This includes requiring that LPTV Service stations file an application for modification of license in order to change their COL. In the application, stations must certify that its protected service contour will overlap the COL boundary. Existing FCC Forms 2100, Schedule D (LPTV/TV translator) and F (Class A) will be used for this proposed requirement and only slight changes to the Forms are anticipated. All LPTV Service stations must comply within six months of the effective date of the COL rule.

The R&O also clarifies that test patterns, slides, or still pictures accompanied by unrelated aural transmissions for purposes of determining will not be considered when determining compliance with the requirement that LPTV stations air one free over-the-air video broadcast. We also require that LPTV/TV translator stations that seek to change their designation from LPTV to TV translator and vice versa, seek formal authority to make this change. Existing FCC Form 2100, Schedule D would be used for this proposed requirement and only slight changes to the Form are anticipated. Class A Stations that wish to downgrade to LPTV status must file a similar license modification using existing Form 2100, Schedule F. Only limited changes to the Form are anticipated. In addition, LPTV Service stations with non-compliant call signs will be required to file a request for call sign change to specify a call sign that aligns with its service designation. Class A and LPTV stations will be allowed to seek grandfathering of their existing call sign combination. Stations that seek to change their call signs to comply with the new requirement or those that do not qualify for grandfathering will have one-year to submit a call sign change request, and the associated fees for these changes will be exempted during that time. The Media Bureau's existing Licensing and Management System will be used for this proposed requirement and only minimal changes to the system are anticipated.

The R&O also clarifies that all stations with LPTV designation must comply with Emergency Alert System rules, ensuring these stations have the equipment necessary to provide the public with lifesaving information. Additionally, all new or modified channel 14 LPTV Service stations must specify either stringent or full-service mask filtering, unless the station is decreasing power or making a modification to its facilities that does not change its service contour. The revised rules also require that all transmitters in an LPTV Service station's DTS facilities to utilize the same emission mask to ensure accurate interference calculations. The Commission also amended the rules to require LPTV Service stations seeking to enter into an agreement to resolve interference concerns to enter into a signed written agreement that is submitted with the application and makes clear whether money or other consideration was exchanged. The R&O also eliminates the 30-day public notice period for displacement applications, reducing regulatory burdens for these stations and reducing the loss of service to viewers. Finally, stations filing an application for a displacement minor change will be required to include an exhibit briefly describing the basis for displacement. No changes are need to the minor change application. The R&O also permits LPTV/TV translator channel sharing stations seek their own independent channel by using the major modification process. Existing FCC Form 2100, Schedule F would be used for this purpose and only slight changes to the Form are anticipated.

The NPRM sought comment on the costs and benefits associated with the Commission's proposed changes to LPTV Service rules. In evaluating the record, we find that many proposals adopted in the R&O will not impose significant costs on LPTV Service stations because similar application and filing requirements currently exist for many stations and they are likely to be familiar with the forms and processes required for compliance. Further, where possible, the Commission exempts application fees for certain new requirements, as discussed above. To the extent that the revised rules impose additional costs on small entities, such costs should be minimal and are outweighed by the benefits of the revised rules.

F. Discussion of Steps Taken To Minimize the Significant Economic Impact on Small Entities, and Significant Alternatives Considered

The RFA requires an agency to provide, “a description of the steps the agency has taken to minimize the significant economic impact on small entities . . . including a statement of the factual, policy, and legal reasons for selecting the alternative adopted in the final rule and why each one of the other significant alternatives to the rule considered by the agency which affect the impact on small entities was rejected.”

The Commission took steps and considered several alternatives in this proceeding in order to minimize the economic impact on small entities. For example, in revising the distance relocation limits to account for the difference in miles and kilometers, stations that have lost or may lose their existing transmitter sites may seek a waiver of this requirement as suggested by commenters, so long as the station maintains contour overlap. The Commission allowed stations specifying their COL greater flexibility to use the name of a county or commonly used name of an unincorporated area as the Station's COL, and exempts fees associated with the application to change COL for six months. The Commission also declined to adopt its proposal to limit COL changes to once per year finding that the proposed limit went against the flexibility traditionally afforded to LPTV Service stations to decide where they operate without any corresponding benefit.

The R&O declined to require LPTV Service stations to specify rule-compliant call signs within 90 days of the effective date of the call sign rule and instead allowed stations to “grandfather” existing call signs that are not compliant with the LPTV or Class A call sign rule. The Commission also declined alternative call sign proposals because they would make the call sign system more confusing to the public. Additionally, Commenters suggested that requiring small LPTV stations to operate a minimum number of hours would be costly and burdensome. As such, the R&O declined to adopt the Commission's original proposal to require LPTV stations operate not less than 14 hours per calendar week instead deciding to adopt no minimum operating hour requirement for LPTV stations, thereby allowing the flexibility needed for small LPTV stations without traditional hours to serve their viewers.

The Commission also declined to adopt a proposal to limit service designation changes from LPTV to TV translator to not more than once every 12 months finding that such a limit was not necessary and could unfairly limit stations that need to make such changes for bona fide reasons. The R&O also declined to adopt a proposal by commenters to allow for LPTV/TV translator channel sharing stations to resume independent non-shared operation through use of the displacement process. Instead, the Commission concluded that it would permit LPTV/TV translator channel sharing stations to apply for an independent non-shared operating channel through the Commission's major modification process.

Finally, the R&O declined to adopt a number of proposals that addressed matters outside this proceeding, such as changes to LPTV Station operating power, must carry status, and renaming this service. Some of these proposals were previously rejected while others are being considered in other Commission proceedings. The remaining alternatives adopted by the Commission in the R&O were considered to be the least costly and/or minimally burdensome for small and other entities impacted by the rules.

G. Report to Congress

The Commission will send a copy of the R&O, including this FRFA, in a report to be sent to Congress pursuant to the Congressional Review Act. In addition, the Commission will send a copy of the R&O, including this FRFA, to the Chief Counsel for Advocacy of the SBA.

V. Ordering Clauses

Accordingly, it is ordered, pursuant to the authority contained in 47 U.S.C. 151, 154, 301, 303, 307, 308, 309, 310, 316, 319, and 336, this Report and Order is adopted.

It is further ordered that this Report and Order shall be effective 30 days after publication in the Federal Register, except that the amendments to §§ 73.3700(g)(4), 73.6001, 73.6002, 74.787, 74.791, 74.793, and 74.799, which may contain new or modified information collection requirements, will not become effective until the Office of Management and Budget completes review of any information collections that the Media Bureau determines is required under the Paperwork Reduction Act. The Commission directs the Media Bureau to announce the effective date for §§ 73.3700(g)(4), 73.6001, 73.6002, 74.787, 74.791, 74.793, and 74.799, by notice in the Federal Register and by subsequent Public Notice.

It is further ordered that the Office of the Secretary, shall send a copy of the Report and Order, including the Final Regulatory Flexibility Analysis, to the Chief Counsel for Advocacy of the Small Business Administration.

It is further ordered that, pursuant to the Congressional Review Act, 5 U.S.C. 801(a)(1)(A), the Commission shall send a copy of this Report and Order to Congress and to the Government Accountability Office.

It is further ordered that should no petitions for reconsideration or petitions for judicial review be timely filed, MB Docket No. 24-148 shall be terminated and its docket closed.

List of Subjects

47 CFR Part 11

Television.

47 CFR Parts 73 and 74

Reporting and recordkeeping requirements, Television.

Federal Communications Commission.
Marlene Dortch,
Secretary.

Final Rules

For the reasons discussed in the preamble, the Federal Communications Commission amends 47 CFR parts 11, 73 and 74 as follows:

PART 11—EMERGENCY ALERT SYSTEM (EAS)

1. The authority citation for part 11 continues to read as follows:

Authority: 47 U.S.C. 151, 154(i) and (n), 303(r), 544(g), 606, 1201, 1206.

2. In § 11.11 amend paragraph (a) by revising the introductory text, table 1,” and paragraph (b) to read as follows:

§ 11.11 The Emergency Alert System (EAS).

(a) The EAS is composed of analog radio broadcast stations including AM, FM, and Low-power FM (LPFM) stations; digital audio broadcasting (DAB) stations, including digital AM, FM, and Low-power FM stations; television (TV) broadcast stations, including Class A and low power TV (LPTV) stations; analog cable systems; digital cable systems which are defined for purposes of this part only as the portion of a cable system that delivers channels in digital format to subscribers at the input of a Unidirectional Digital Cable Product or other navigation device; wireline video systems; wireless cable systems which may consist of Broadband Radio Service (BRS), or Educational Broadband Service (EBS) stations; DBS services, as defined in § 25.701(a) of this chapter (including certain Ku-band Fixed-Satellite Service Direct to Home providers); and SDARS, as defined in § 25.201 of this chapter. These entities are referred to collectively as EAS Participants in this part, and are subject to this part, except as otherwise provided herein. At a minimum EAS Participants must use a common EAS protocol, as defined in § 11.31, to send and receive emergency alerts, and comply with the requirements set forth in § 11.56, in accordance with the following tables:

Table 1—Analog and Digital Broadcast Station Equipment Deployment Requirements
EAS equipment requirement | AM & FM | Digital AM & FM | Analog & digital FM class D | Analog & digital LPFM | TV | Class A TV | LPTV
EAS decoder ¹ | Y | Y | Y | Y | Y | Y | Y
EAS encoder | Y | Y | N | N | Y | Y | N
Audio message | Y | Y | Y | Y | Y | Y | Y
Video message | N/A | N/A | N/A | N/A | Y | Y | Y
¹ EAS Participants may comply with the obligations set forth in § 11.56 to decode and convert CAP-formatted messages into EAS Protocol-compliant messages by deploying an Intermediary Device, as specified in § 11.56(b).

* * * * *

(b) Analog class D non-commercial educational FM stations as defined in § 73.506 of this chapter, digital class D non-commercial educational FM stations, analog LPFM stations as defined in §§ 73.811 and 73.853 of this chapter, digital LPFM stations, and LPTV stations as defined in § 74.701(b) of this chapter are not required to comply with § 11.32. Television broadcast translator stations, as defined in § 74.701(a) of this chapter, which entirely rebroadcast the programming of other broadcast televisions stations, are not required to comply with the requirements of this part. FM broadcast booster stations as defined in § 74.1201(f) of this chapter and FM translator stations as defined in § 74.1201(a) of this chapter which entirely rebroadcast the programming of other local FM broadcast stations are not required to comply with the requirements of this part. International broadcast stations as defined in § 73.701 of this chapter are not required to comply with the requirements of this part. Analog and digital broadcast stations that operate as satellites or repeaters of a hub station (or common studio or control point if there is no hub station) and rebroadcast 100 percent of the programming of the hub station (or common studio or control point) may satisfy the requirements of this part through the use of a single set of EAS equipment at the hub station (or common studio or control point) which complies with §§ 11.32 and 11.33.

* * * * *

3. Amend § 11.51 by revising paragraph (e) to read as follows:

§ 11.51 EAS code and Attention Signal Transmission requirements.

* * * * *

(e) Analog class D non-commercial educational FM stations as defined in § 73.506 of this chapter, digital class D non-commercial educational FM stations, analog Low Power FM (LPFM) stations as defined in §§ 73.811 and 73.853 of this chapter, digital LPFM stations, and LPTV stations as defined in § 74.701(b) of this chapter are not required to have equipment capable of generating the EAS codes and Attention Signal specified in § 11.31.

* * * * *

4. Amend § 11.61 by revising paragraphs (a)(1)(i), (a)(2)(i)(A), and (a)(2)(ii) to read as follows:

§ 11.61 Tests of EAS procedures.

(a) * * *

(1) * * *

(i) Tests in odd numbered months shall occur between 8:30 a.m. and local sunset. Tests in even numbered months shall occur between local sunset and 8:30 a.m. They will originate from Local or State Primary sources. The time and script content will be developed by State Emergency Communications Committees in cooperation with affected EAS Participants. Script content may be in the primary language of the EAS Participant. These monthly tests must be transmitted within 60 minutes of receipt by EAS Participants in an EAS Local Area or State. Analog and digital class D non-commercial educational FM, analog and digital LPFM stations, and LPTV stations are required to transmit only the test script.

* * * * *

(2) * * *

(i) * * *

(A) Analog and digital AM, FM, and TV broadcast stations must conduct tests of the EAS header and EOM codes at least once a week at random days and times. DAB and TV stations must conduct these tests on all program streams.

* * * * *

(ii) DBS providers, SDARS providers, analog and digital class D non-commercial educational FM stations, analog and digital LPFM stations, and LPTV stations are not required to transmit this test but must log receipt, as specified in § 11.35(a) and 11.54(a)(3).

* * * * *

PART 73—RADIO BROADCAST SERVICES

5. The authority citation for part 73 continues to read as follows:

Authority: 47 U.S.C. 154, 155, 301, 303, 307, 309, 310, 334, 336, 339.

6. Amend § 73.619 by revising paragraph (b)(1) to read as follows:

§ 73.619 Contours and service areas.

* * * * *

(b) * * *

(1) In predicting the distance to the field strength contours, the F (50,50) field strength charts (Figures 9, 10 and 10b of § 73.699) and the F (50,10) field strength charts (Figures 9a, 10a and 10c of § 73.699) shall be used. To use the charts to predict the distance to a given F (50,90) contour, the following procedure is used: Convert the effective radiated power in kilowatts for the appropriate azimuth into decibel value referenced to 1 kW (dBk). Subtract the power value in dBk from the contour value in dBu. Note that for power less than 1 kW, the difference value will be greater than the contour value because the power in dBk is negative. Locate the difference value obtained on the vertical scale at the left edge of the appropriate F (50,50) chart for the TV station's channel. Follow the horizontal line for that value into the chart to the point of intersection with the vertical line above the height of the antenna above average terrain for the appropriate azimuth located on the scale at the bottom of the chart. If the point of intersection does not fall exactly on a distance curve, interpolate between the distance curves below and above the intersection point. The distance values for the curves are located along the right edge of the chart. Using the appropriate F (50,10) chart for the TV station's channel, locate the point where the distance coincides with the vertical line above the height of the antenna above average terrain for the appropriate azimuth located on the scale at the bottom of the chart. Follow a horizontal line from that point to the left edge of the chart to determine the F (50,10) difference value. Add the power value in dBk to this difference value to determine the F (50,10) contour value in dBu. Subtract the F (50,50) contour value in dBu from this F (50,10) contour value in dBu. Subtract this difference from the F (50,50) contour value in dBu to determine the F (50,90) contour value in dBu at the pertinent distance along the pertinent radial.

* * * * *

7. Amend § 73.625 by revising paragraph (c)(4)(i) to read as follows:

§ 73.625 TV antenna system.

* * * * *

(c) * * *

(4) * * *

(i) In cases where it is proposed to use a tower of an AM broadcast station as a supporting structure for a TV broadcast antenna, an appropriate application for changes in the radiating system of the AM broadcast station must be filed by the licensee thereof. A formal application (FCC Form 2100, Schedule 301-AM) will be required if the proposal involves substantial change in the physical height or radiation characteristics of the AM broadcast antennas; otherwise an informal application will be acceptable. (In case of doubt, an informal application (letter) together with complete engineering data should be submitted.) An application may be required for other classes of stations when the tower is to be used in connection with a TV station.

* * * * *

8. Amend § 73.2080 by revising paragraph (f)(3) to read as follows:

§ 73.2080 Equal employment opportunities (EEO).

* * * * *

(f) * * *

(3) If a station is subject to a time brokerage agreement, the licensee shall file Form 2100 Schedule 396 and EEO public file reports concerning only its own recruitment activity. If a licensee is a broker of another station or stations, the licensee-broker shall include its recruitment activity for the brokered station(s) in determining the bases of Form 2100 Schedule 396 and the EEO public file reports for its own station. If a licensee-broker owns more than one station, it shall include its recruitment activity for the brokered station in the Form 2100 Schedule 396 and EEO public file reports filed for its own station that is most closely affiliated with, and in the same market as, the brokered station. If a licensee-broker does not own a station in the same market as the brokered station, then it shall include its recruitment activity for the brokered station in the Form 2100 Schedule 396 and EEO public file reports filed for its own station that is geographically closest to the brokered station.

* * * * *

9. Amend § 73.3572 by revising paragraph (a)(2) to read as follows:

§ 73.3572 Processing of TV broadcast, Class A TV broadcast, low power TV, and TV translator applications.

(a) * * *

(2) In the case of Class A TV stations authorized under subpart J of this part and low power TV and TV translator stations authorized under part 74 of this chapter, major or minor changes are defined in § 74.787(b).

* * * * *

10. Amend § 73.3580 by revising paragraph (a)(3) to read as follows:

§ 73.3580 Local public notice of filing of broadcast applications.

(a) * * *

(3) Locally originating programming. Programming from a low power television (LPTV) or television translator station as defined in § 74.701(g) of this chapter.

* * * * *

§ 73.3700 [Amended]

11. Delayed indefinitely, amend § 73.3700 by removing and reserving paragraph (g).

12. Delayed indefinitely, amend § 73.6001 by revising paragraph (d) to read as follows:

§ 73.6001 Eligibility and service requirements.

* * * * *

(d) Licensees unable to continue to meet the minimum operating requirements for Class A television stations, or which elect to revert to low power television status, shall promptly file a modification of license (FCC Form 2100, Schedule F) in order to request a change in status. The station's call sign will be modified consistent with § 74.791(c) following reversion to low power television status.

13. Amend § 73.6002 by revising paragraph (a)(2) to read as follows:

§ 73.6002 Licensing requirements.

(a) * * *

(2) Files an acceptable application for a Class A Television license (FCC Form 2100, Schedule F).

14. Delayed indefinitely, further amend § 73.6002 by adding paragraph (b) to read as follows:

§ 73.6002 Licensing requirements.

* * * * *

(b) Community coverage requirements. (1) A Class A station's protected contour (see § 73.6010) must overlap with at least a portion of its community of license.

(i) For purposes of determining whether a community of license's boundary overlaps with a station's protected service contour, an applicant shall use the boundary of the community as may be recognized by any federal, state, local, or tribal governmental entity.

(ii) In the event that no community exists consistent with paragraph (b)(1)(i), the Class A station may use Longley-Rice to demonstrate a level of service equivalent to the value in § 73.6010 is present in the requested community.

(2) To change a Class A station's community of license, a modification of license (FCC Form 2100, Schedule F) must be filed specifying the new community.

15. Revise § 73.6017 to read as follows:

§ 73.6017 Class A TV station protection of Class A TV stations.

An application to change the facilities of a Class A TV station will not be accepted if it fails to protect authorized Class A stations in accordance with the requirements of § 74.793 (b) through (d), (g), and (j) of this chapter. This protection must be afforded to applications for changes in other authorized Class A stations filed prior to the date the Class A application is filed.

16. Revise § 73.6019 to read as follows:

§ 73.6019 Class A TV station protection of low power TV and TV translator stations.

An application to change the facilities of a Class A TV station will not be accepted if it fails to protect authorized low power TV and TV translator stations in accordance with the requirements of § 74.793(b) through (d), (h), and (j) of this chapter. This protection must be afforded to applications for changes filed prior to the date the Class A station is filed.

17. Amend § 73.6023 by adding paragraph (f)(6) to read as follows:

§ 73.6023 Distributed transmission systems.

* * * * *

(f) * * *

(6) All DTS transmitters must use the same emission mask. See § 73.6024(d).

* * * * *

18. Amend § 73.7003 by revising paragraphs (b)(2), (b)(4), and (c)(5)(ii) to read as follows:

§ 73.7003 Point system selection procedures.

* * * * *

(b) * * *

(2) Local diversity of ownership. Two points for applicants with no attributable interests, as defined in § 73.7000, in any other broadcast station or authorized construction permit (comparing radio to radio and television to television) whose principal community (city grade) contour overlaps that of the proposed station. The principal community (city grade) contour is the 5 mV/m for AM stations, the 3.16 mV/m for FM stations calculated in accordance with § 73.313(c), and the contour identified in § 73.618(a)-for TV. Radio applicants will count commercial and noncommercial AM, FM, and FM translator stations other than fill-in stations. Television applicants will count UHF, VHF, and Class A stations.

* * * * *

(4) Technical parameters. One point to the applicant covering the largest geographic area and population with its relevant contour (60 dBu for FM and NLSC for TV), provided that the applicant covers both a ten percent greater area and a ten percent greater population than the applicant with the next best technical proposal. The top applicant will receive two points instead of one point if its technical proposal covers both a 25 percent greater area and 25 percent greater population than the next best technical proposal.)

(c) * * *

(5) * * *

(ii) Groups of more than three tied, grantable applications will not be eligible for licensing under this section. Where such groups exist, the Commission will dismiss all but the applications of the three applicants that have been local, as defined in § 73.7000, for the longest uninterrupted periods of time. The Commission will then process the remaining applications as set forth in paragraph (c)(5)(i) of this section.

* * * * *

PART 74—EXPERIMENTAL RADIO, AUXILIARY, SPECIAL BROADCAST AND OTHER PROGRAM DISTRIBUTIONAL SERVICES

19. The authority citation for part 74 continues to read as follows:

Authority: 47 U.S.C. 154, 302a, 303, 307, 309, 310, 325, 336 and 554.

20. Revise § 74.701 to read as follows:

§ 74.701 Definitions.

(a) Television broadcast translator station (TV translator). A station operated for the purpose of retransmitting the programs and signals of a television broadcast station, without significantly altering any characteristic of the original signal other than its frequency, for the purpose of providing television reception to the public.

(b) Low power TV station (LPTV). A station authorized under the provisions of this subpart that may retransmit the programs and signals of a television broadcast station, may originate programming in any amount greater than 30 seconds per hour for the purpose of providing television reception to the public and, subject to a minimum video program service requirement, may offer services of an ancillary or supplementary nature, including subscription-based services. See § 74.790.

(c) Analog to Digital Replacement Translator (DRT). A television translator licensed to a full power television station that allows it to restore service to any loss areas that may have occurred as a result of its transition from analog to digital.

(d) Digital to Digital Replacement Translator (DTDRT). A television translator licensed to a full power television station that allows it to restore service to any loss areas that may have occurred as a result of the station being assigned a new channel pursuant to the Incentive Auction and repacking process.

(e) Primary station. The television station which provides the programs and signals being retransmitted by a TV translator.

(f) Existing low power television or television translator station. When used in this subpart, existing low power television or existing television translator station refers to a station that is either licensed or has a valid construction permit.

(g) Local origination. For purposes of this part, local origination shall be any transmissions other than the simultaneous retransmission of the programs and signals of a TV broadcast station or transmissions related to service offerings of an ancillary or supplementary nature. Origination shall include locally generated television program signals and program signals obtained via video recordings (tapes and discs), microwave, common carrier circuits, or other sources.

21. Amend § 74.720 by:

a. Revising the section heading and paragraphs (a) and (b);

b. Adding paragraph (e)(6); and

c. Revising paragraph (f).

The revisions and addition read as follows:

§ 74.720 Low power TV distributed transmission systems.

(a) A low power TV or TV translator (LPTV) station may be authorized to operate multiple synchronized transmitters on its assigned channel to provide service consistent with the requirements of this section. Such operation is called a distributed transmission system (DTS). Except as expressly provided in this section, LPTV stations operating a DTS facility must comply with all rules in this part applicable to LPTV single-transmitter stations.

(b) For purposes of compliance with this section, a LPTV station's “authorized facility” is the facility authorized for the station in a license or construction permit for non-DTS, single-transmitter-location operation. An LPTV station's “authorized service area” is defined as the area within its protected contour (described by § 74.792) as determined using the authorized facility.

* * * * *

(e) * * *

(6) All DTS transmitters must use the same emission mask. See § 74.794.

(f) All transmitters operating under a single LPTV DTS license must follow the same broadcast television transmission standard.

22. Amend § 74.732 by revising paragraphs (d) and (e) to read as follows:

§ 74.732 Eligibility and licensing requirements.

* * * * *

(d) The FCC will not act on applications for new LPTV or TV translator stations, or for changes in facilities of existing stations, when such changes will result in a major change, until the applicable time for filing a petition to deny has passed pursuant to § 73.3584(c) of this subpart.

(e) A proposal to change the primary TV station(s) being retransmitted will be subject only to a notification requirement.

* * * * *

23. Revise § 74.780 to read as follows:

§ 74.780 Broadcast regulations applicable to TV translators and LPTV stations.

(a) The following rules are applicable to TV translators and LPTV stations:

(1) 47 CFR part 5—Experimental authorizations.

(2) 47 CFR 73.658—Affiliation agreements and network program practices; territorial exclusivity in non-network program arrangements.

(3) 47 CFR 73.1030—Notifications concerning interference to radio astronomy, research, and receiving installations.

(4) 47 CFR 73.1206—Broadcast of telephone conversations.

(5) 47 CFR 73.1207—Rebroadcasts.

(6) 47 CFR 73.1208—Broadcast of taped, filmed, or recorded material.

(7) 47 CFR 73.1211—Broadcast of lottery information.

(8) 47 CFR 73.1212—Sponsorship identifications; list retention; related requirements.

(9) 47 CFR 73.1216—Licensee-conducted contests.

(10) 47 CFR 73.1515—Special field test authorizations.

(11) 47 CFR 73.1615—Operation during modification of facilities.

(12) 47 CFR 73.1620—Program tests.

(13) 47 CFR 73.1635—Special temporary authorizations (STA).

(14) 47 CFR 73.1650—International agreements.

(15) 47 CFR 73.1680—Emergency antennas.

(16) 47 CFR 73.1740(a)(2)(iii)—Minimum operating schedule.

(17) 47 CFR 73.1940—Legally qualified candidates for public office.

(18) 47 CFR 73.3500—Application and report forms.

(19) 47 CFR 73.3511—Applications required.

(20) 47 CFR 73.3512—Where to file; number of copies.

(21) 47 CFR 73.3513—Signing of applications.

(22) 47 CFR 73.3514—Content of applications.

(23) 47 CFR 73.3516—Specification of facilities.

(24) 47 CFR 73.3517—Contingent applications.

(25) 47 CFR 73.3518—Inconsistent or conflicting applications.

(26) 47 CFR 73.3519—Repetitious applications.

(27) 47 CFR 73.3521—Mutually exclusive applications for low power TV and TV translator stations.

(28) 47 CFR 73.3522—Amendment of applications.

(29) 47 CFR 73.3525—Agreements for removing application conflicts.

(30) 47 CFR 73.3533—Application for construction permit or modification of construction permit.

(31) 47 CFR 73.3536—Application for license to cover construction permit.

(32) 47 CFR 73.3538(a)(1), (3), and (4) and (b)—Application to make changes in an existing station.

(33) 47 CFR 73.3539—Application for renewal of license.

(34) 47 CFR 73.3540—Application for voluntary assignment or transfer of control.

(35) 47 CFR 73.3541—Application for involuntary assignment of license or transfer of control.

(36) 47 CFR 73.3542—Application for emergency authorization.

(37) 47 CFR 73.3544—Application to obtain a modified station license.

(38) 47 CFR 73.3545—Application for permit to deliver programs to foreign stations.

(39) 47 CFR 73.3550—Requests for new or modified call sign assignments.

(40) 47 CFR 73.3561—Staff consideration of applications requiring Commission action.

(41) 47 CFR 73.3562—Staff consideration of applications not requiring action by the Commission.

(42) 47 CFR 73.3564—Acceptance of applications.

(43) 47 CFR 73.3566—Defective applications.

(44) 47 CFR 73.3568—Dismissal of applications.

(45) 47 CFR 73.3572—Processing of TV broadcast, low power TV, and TV translator station applications.

(46) 47 CFR 73.3580—Local public notice of filing of broadcast applications.

(47) 47 CFR 73.3584—Petitions to deny.

(48) 47 CFR 73.3587—Informal objections.

(49) 47 CFR 73.3591—Grants without hearing.

(50) 47 CFR 73.3593—Designation for hearing.

(51) 47 CFR 73.3594—Local public notice of designation for hearing.

(52) 47 CFR 73.3597—Procedures on transfer and assignment applications.

(53) 47 CFR 73.3598—Period of construction.

(54) 47 CFR 73.3601—Simultaneous modification and renewal of license.

(55) 47 CFR 73.3603—Special waiver procedure relative to applications.

(b) The following rules are applicable to low power TV stations only:

(1) 47 CFR part 11—Emergency Alert System.

(2) 47 CFR 73.2080—Equal employment opportunities.

(3) 47 CFR 73.3612—Annual employment report.

(4) 47 CFR 73.3613—Availability to FCC of station contracts (network affiliation contracts only).

24. Amend § 74.783 by revising paragraphs (a) introductory text and (a)(1) to read as follows:

§ 74.783 Station identification.

(a) Each LPTV station as defined by § 74.701(b) must transmit its station identification using one of the following methods:

(1) When originating programming, as defined by § 74.701(g), an LPTV station may use the station identification procedures given in § 73.1201 of this chapter on its primary stream. Other streams may use the method in paragraph (a)(2) of this section. The identification procedures given in the remainder of this paragraph are to be used at any time the station is not originating programming; or

* * * * *

25. Amend § 74.784 by revising paragraph (e) to read as follows:

§ 74.784 Rebroadcasts.

* * * * *

(e) The provisions of § 73.1207 of part 73 of this chapter apply to LPTV stations in transmitting any material during periods of local origination obtained from the transmissions of any other type of station.

26. Amend § 74.787 by revising paragraphs (a)(4) and (b)(1)(iii) to read as follows:

§ 74.787 Licensing.

(a) * * *

(4) Displacement applications. (i) To be eligible for displacement, an LPTV, TV translator, DRT, or DTDRT station must meet one of the following requirements:

(A) Cause actual interference within a TV broadcast station's noise-limited service contour (see § 73.619(c)).

(B) Cause predicted interference beyond the amount specified in § 74.793(e) with respect to a TV broadcast station, allotment, or other protected station or service, except if such interference has been previously accepted.

(C) Receive predicted interference beyond the amount specified in § 74.793(h) with respect to a TV broadcast station, allotment, or other protected station or service, except if such interference has been previously accepted.

(D) Cause actual or predicted interference to the input channel of a TV translator, DRT, or DTDRT station as measured at the receive site.

(E) Cause interference to land mobile operations such that it must otherwise cease operations consistent with § 74.703(e).

(F) Is predicted to cause or receive interference to or from an authorized TV broadcast station or allotment with respect to protected foreign stations.

(ii) If a station is displaced by a channel substitution in the Table of TV Allotments, it may file an application for displacement relief after the channel substitution is final.

(iii) [Reserved]

(iv) Displacement relief applications will not be subject to the filing of competing applications.

(v) Where a displacement relief application for a low power television or television translator station becomes mutually exclusive with the application(s) for new low power television or television translator stations, or with other non-displacement relief applications for facilities modifications of low power television or television translator stations, priority will be afforded to the displacement application for the low power television or television translator station to the exclusion of other applications, except as otherwise specified in paragraph (a)(5)(iii) of this section.

(vi) Mutually exclusive displacement relief applications for low power television and television translator stations shall be resolved via the Commission's part 1 and broadcast competitive bidding rules, §§ 1.2100 through 1.2199, and 73.5000 through 73.5009 of this chapter. Such applicants shall be afforded an opportunity to submit settlements and engineering solutions to resolve mutual exclusivity pursuant to § 73.5002(d) of this chapter.

* * * * *

(b) * * *

(1) * * *

(iii) Any change in transmitting antenna location of greater than 49.1 kilometers from the coordinates of the existing antenna location.

* * * * *

27. Delayed indefinitely, further amend § 74.787 by adding paragraphs (a)(1) and (2) and (a)(4)(iii) to read as follows:

§ 74.787 Licensing.

(a) * * *

(1) Community coverage requirements. (i) An LPTV or TV translator station's protected contour (see § 74.792) must overlap with at least a portion of its community of license.

(A) For purposes of determining whether a community of license's boundary overlaps with a station's protected service contour, an applicant shall use the boundary of the community as may be recognized by any federal, state, local, or tribal governmental entity.

(B) In the event that no such community exists under paragraph (a)(1)(i)(A), the station may use Longley-Rice to demonstrate a level of service equivalent to the value in § 74.792 is present in the requested community.

(ii) To change an LPTV or TV translator station's community of license, a modification of license application (FCC Form 2100, Schedule D) must be filed specifying the new community that complies with paragraph (a)(i).

(2) Conversion between LPTV and TV translator. (i) A TV translator may convert to an LPTV station by filing a modification of license requesting the conversion. The station's call sign must be modified consistent with § 74.791(c) after converting to a LPTV station.

(ii) An LPTV station may convert to a TV translator by filing a modification of license application (FCC Form 2100, Schedule D). It shall specify the station(s) to be translated in its filing. The station's call sign will be modified consistent with § 74.791(b) after converting to a TV translator.

(a) * * *

(4) * * *

(iii) Eligible stations under paragraph (i) of this section may file a displacement relief application on FCC Form 2100, Schedule C for change in channel at any time, together with necessary technical modifications to avoid interference. The application must indicate the eligible cause of displacement from paragraph (i) of this section. Such applications are considered minor modifications and must comply with paragraph (b) of this section.

* * * * *

28. Amend § 74.790 by revising paragraphs (g)(2) and (3) and adding paragraph (p) to read as follows:

§ 74.790 Permissible service of TV translator and LPTV stations.

* * * * *

(g) * * *

(2) For the origination of programming and commercial matter as defined in § 74.701(g).

(3) An LPTV station must transmit at least one over-the-air video program signal at no direct charge to viewers at a resolution of at least 480i (vertical resolution of 480 lines, interlaced).

* * * * *

(p) No operations are permitted on channels above 36.

29. Delayed indefinitely, further amend § 74.791 by revising paragraphs (a) through (c) to read as follows:

§ 74.791 Call signs.

(a) New low power and television translator stations. Call signs for new TV translator and LPTV stations will be made up of a prefix consisting of the initial letter K or W followed by the channel number assigned to the station and two additional letters and a suffix consisting of the letters -D, consistent with paragraph (d) of this section. Prior to filing a license to cover, a new LPTV station must modify its call sign to be consistent with the requirements of paragraph (c) of this section.

(b) Television translator stations. Call signs for TV translator stations will be made up of a prefix consisting of the initial letter K or W followed by the channel number assigned to the station and two additional letters and a suffix consisting of the letter -D, consistent with paragraph (d) of this section.

(c) Low power television stations and Class A television stations. (1) Call signs for LPTV and Class A television stations will be made up of a four-letter prefix pursuant to § 73.3550 of this chapter along with a two-letter suffix. LPTV stations will be assigned the suffix -LD and Class A stations will be assigned the suffix -CD.

(2) An LPTV or Class A station that is licensed as of December 19, 2025, may retain its call sign as of that date and is not required to comply with the requirements of paragraph (c) unless it changes its service designation (voluntarily or involuntarily) or chooses to modify its call sign.

* * * * *

30. Delayed indefinitely, further amend § 74.793 by revising paragraph (b) and adding paragraphs (i) and (j) to read as follows:

§ 74.793 Low power TV and TV translator station protection of broadcast stations.

* * * * *

(b) Except as provided in this section, interference prediction analysis is based on the interference thresholds (D/U signal strength ratios) and other criteria and methods specified in § 73.620 of this chapter. The 2 km cell size specified in § 73.620(b) is not permitted for stations subject to this rule. Applicants should specify either the 1 km or 0.5 km cell size, otherwise the 1 km cell size will be assumed.

* * * * *

(i) Stations subject to this subpart may negotiate interference agreements consistent with §§ 73.620(e) and 73.6022.

(j) If an existing authorization exceeds the interference thresholds consistent with paragraphs (g) or (h) of this section, when filing a non-displacement minor modification it may create interference up to but not exceeding the level previously authorized. The proposal shall use the same cell size and path profile increment in showing both the existing and proposed interference. A copy of any interference agreement must be included as an exhibit to the application.

31. Amend § 74.794 by revising paragraph (a)(1) to read as follows:

§ 74.794 Digital Emissions.

(a)(1) An applicant for an LPTV or TV translator station construction permit shall specify that the station will be constructed to confine out-of-channel emissions within one of the following emission masks: Simple, stringent, or full service. Applicants proposing new or modified operation on channel 14 shall specify either the stringent or full service emission mask.

* * * * *

32. Delayed indefinitely, further amend § 74.799 by adding paragraph (i) to read as follows:

§ 74.799 Low power television and TV translator channel sharing.

* * * * *

(i) Channel sharees exiting shared status. An LPTV or TV translator channel sharee may cease channel sharing and seek to obtain a license for a non-shared channel by filing a major modification (FCC Form 2100, Schedule C) specifying a non-shared channel and facility.

[FR Doc. 2026-01279 Filed 1-22-26; 8:45 am]

BILLING CODE 6712-01-P